NUCLEAR REGULATORY COMMISSION

[NRC-2013-0264]

Standard Format and Content for a License Application for an Independent Spent Fuel Storage Installation or a Monitored Retrievable Storage Facility

AGENCY: Nuclear Regulatory Commission.

ACTION: Regulatory guide; issuance.

SUMMARY: The U.S. Nuclear Regulatory Commission (NRC) is issuing a revision to Regulatory Guide (RG) 3.50, “Standard Format and Content for a License Application for an Independent Spent Fuel Storage Installation or a Monitored Retrievable Storage Facility.” This guide provides a format that the NRC staff considers acceptable for submitting the information for license applications to store spent nuclear fuel, high-level radioactive waste, and reactor-related Greater than Class C (GTCC) waste.

ADDRESSES: Please refer to Docket ID NRC-2013-0264 when contacting the NRC about the availability of information regarding this document. You may obtain publicly-available information related to this document using any of the following methods:

• Federal Rulemaking Web site: Go to http://www.regulations.gov and search for Docket ID NRC-2014-0021. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of Regulatory Guide 3.50 is available in ADAMS under Accession No. ML14043A080. The regulatory analysis may be found in ADAMS under Accession No. ML12087A039.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Bernie White, Office of Nuclear Material Safety and Safeguards, telephone: 301-287-0810; email Bernie.White@nrc.gov or Jazel Parks, Office of Nuclear Regulatory Research, telephone: 301-251-7690; email Jazel.Parks@nrc.gov. Both are staff of the U.S. Nuclear Regulatory Commission, Washington, DC 20555-0001.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 2 of RG 3.50 provides a format that the NRC considers acceptable for submitting the information for license applications to store spent nuclear fuel, high-level radioactive waste, and/or reactor-related GTCC waste. Part 72 of Title 10 of the Code of Federal Regulations (10 CFR), “Licensing Requirements for the Independent Storage of Spent Nuclear Fuel, High-Level Radioactive Waste, and Reactor-Related Greater Than Class C Waste” Subpart B, “License Application, Form, and Contents,” specifies the information that must be in an application for a license to store spent nuclear fuel, high-level radioactive waste, and/or power-reactor-related GTCC waste in an independent spent fuel storage installation (ISFSI) or in a monitored retrievable storage (MRS) facility.

II. Additional Information

The NRC issued the draft version of Revision 2 of RG 3.50 with a temporary identification as draft regulatory guide (DG), DG-3042, and published notice of its issuance in the Federal Register on December 6, 2013 (78 FR 73566) for a 30-day public comment period. The public comment period closed on January 24, 2014. Public comments on DG-3042 and the staff responses to the public comments are available under ADAMS Accession Number ML14043A068.

III. Congressional Review Act

This RG is a rule as defined in the Congressional Review Act (5 U.S.C. 801-808). However, the Office of Management and Budget has not found it to be a major rule as defined in the Congressional Review Act.

IV. Backfitting and Issue Finality

This RG provides guidance on one possible means for meeting the NRC's regulatory requirements in 10 CFR part 72 regarding the format and content for license applications for an ISFSI or MRS. This regulatory guide may be applied to license applications for ISFSIs and MRSs docketed by the NRC as of the date of issuance of the final regulatory guide, as well as future applications for such licenses submitted after the issuance of the regulatory guide.

This regulatory guide does not constitute backfitting as defined in 10 CFR 72.62(a). The subject matter of this regulatory guide does not concern matters dealing with either the structures, systems, or components of an ISFSI or MRS, or the procedures or organization for operating an ISFSI or MRS. Therefore, the matters addressed in this draft regulatory guide are not within the scope of the backfitting provisions in § 72.62(a)(1) or (2).

This regulatory guide does not apply to entities protected by issue finality provisions in 10 CFR part 52 with respect to the matters addressed in this regulatory guide. Although part 52 combined license applicants and holders may apply for specific ISFSI licenses, the guidance in this regulatory guide is directed to ISFSI applicants and does not make a distinction between ISFSI applicants who are also combined license applicants or holders and ISFSI applicants who are not combined license applicants and holders, and presents no more onerous guidance for ISFSI applicants who are also combined license applicants or holders versus ISFSI applicants who are not combined license applicants and holders. Accordingly, the NRC concludes that this regulatory guide is not inconsistent with any part 52 issue finality provisions.

Dated at Rockville, Maryland, this 30th day of September, 2014.
For the Nuclear Regulatory Commission.
Harriett Karagiannis,
Acting Chief, Regulatory Guidance and Generic Issues Branch, Division of Engineering, Office of Nuclear Regulatory Research.

[FR Doc. 2014-23718 Filed 10-3-14; 8:45 am]

BILLING CODE 7590-01-P